DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: August 2, 2016.
Roy E. Wright,
Deputy Associate Administrator for Insurance and Mitigation, Department of Homeland Security, Federal Emergency Management Agency.

State and county | Location and case No. | Chief executive officer of community | Community map repository | Effective date of modification | Community No.
Colorado: Arapahoe (FEMA Docket No.: B-1611) | City of Aurora (15-08-1386P) | The Honorable Steve Hogan, Mayor, City of Aurora, 15151 East Alameda Parkway, Aurora, CO 80012 | City Hall, 15151 East Alameda Parkway, Aurora, CO 80012 | Jun. 10, 2016 | 080002
Arapahoe (FEMA Docket No.: B-1607) | Unincorporated areas of Arapahoe County (15-08-1087P) | The Honorable Nancy N. Sharpe, Chair, Arapahoe County Board of Commissioners, 5334 South Prince Street, Littleton, CO 80120 | Arapahoe County Public Works Department, 6924 South Lima Street, Littleton, CO 80122 | May 26, 2016 | 080011
Routt (FEMA Docket No.: B-1607) | City of Steamboat Springs (15-08-0994P) | The Honorable Walter Magill, President, City of Steamboat Springs Council, P.O. Box 775088, Steamboat Springs, CO 80477 | Planning and Zoning Department, P.O. Box 775088, Steamboat Springs, CO 80477 | May 31, 2016 | 080159
Connecticut: Hartford (FEMA Docket No.: B-1611) | Town of Simsbury (15-01-2526P) | The Honorable Lisa L. Heavner, First Selectman, Town of Simsbury, 933 Hopmeadow Street, Simsbury, CT 06070 | Town Hall, 933 Hopmeadow Street, Simsbury, CT 06070 | Jun. 3, 2016 | 090035
Florida: Broward (FEMA Docket No.: B-1607) | City of Pompano Beach (15-04-6416P) | The Honorable Lamar Fisher, Mayor, City of Pompano Beach, 100 West Atlantic Boulevard, Pompano Beach, FL 33060 | Building Inspections Department, 100 West Atlantic Boulevard, Pompano Beach, FL 33060 | May 27, 2016 | 120055
Collier (FEMA Docket No.: B-1611) | City of Marco Island (15-04-5962P) | The Honorable Bob Brown, Chairman, City of Marco Island Council, 50 Bald Eagle Drive, Marco Island, FL 34145 | Growth Management Department, 50 Bald Eagle Drive, Marco Island, FL 34145 | May 31, 2016 | 120426
Collier (FEMA Docket No.: B-1611) | City of Naples (16-04-1431P) | The Honorable John Sorey III, Mayor, City of Naples, 735 8th Street South, Naples, FL 34102 | Building Department, 295 Riverside Circle, Naples, FL 34102 | Jun. 9, 2016 | 125130
Hardee (FEMA Docket No.: B-1607) | City of Wauchula (14-04-9451P) | The Honorable Richard Keith Nadaskay, Jr., Mayor, City of Wauchula, 126 South 7th Avenue, Wauchula, FL 33873 | Administration Building, 126 South 7th Avenue, Wauchula, FL 33873 | May 27, 2016 | 120105
Hardee (FEMA Docket No.: B-1607) | Unincorporated areas of Hardee County (14-04-9451P) | The Honorable Rick Knight, Chairman, Hardee County Board of Commissioners, 412 West Orange Street, Room 103, Wauchula, FL 33873 | Hardee County, Planning and Development Department, 110 South 9th Avenue, Wauchula, FL 33873 | May 27, 2016 | 120103
Levy (FEMA Docket No.: B-1607) | City of Cedar Key (15-04-4427P) | The Honorable Heath Davis, Mayor, City of Cedar Key, 490 2nd Street, Cedar Key, FL 32625 | Building Department, 490 2nd Street, Cedar Key, FL 32625 | May 27, 2016 | 120373
Miami-Dade (FEMA Docket No.: B-1607) | City of Sunny Isles Beach (15-04-4049P) | The Honorable George “Bud” Scholl, Mayor, City of Sunny Isles Beach, 18070 Collins Avenue, Sunny Isles Beach, FL 33160 | Building Department, 18070 Collins Avenue, Sunny Isles Beach, FL 33160 | Jun. 2, 2016 | 120688
Miami-Dade (FEMA Docket No.: B-1611) | City of Sunny Isles Beach (15-04-7678P) | The Honorable George “Bud” Scholl, Mayor, City of Sunny Isles Beach, 18070 Collins Avenue, Sunny Isles Beach, FL 33160 | Building Department, 18070 Collins Avenue, Sunny Isles Beach, FL 33160 | Jun. 10, 2016 | 120688
Monroe (FEMA Docket No.: B-1611) | Village of Islamorada (16-04-1346P) | The Honorable Deb Gillis, Mayor, Village of Islamorada, 86800 Overseas Highway, Islamorada, FL 33036 | Planning and Development Department, 86800 Overseas Highway, Islamorada, FL 33036 | Jun. 1, 2016 | 120424
Monroe (FEMA Docket No.: B-1611) | Unincorporated areas of Monroe County (16-04-0087P) | The Honorable Heather Carruthers, Mayor, Monroe County Board of Commissioners, 500 Whitehead Street, Suite 102, Key West, FL 33040 | Monroe County Department of Planning and Environmental Resources, 2798 Overseas Highway, Marathon, FL 33050 | Jun. 2, 2016 | 125129
Orange (FEMA Docket No.: B-1607) | City of Orlando (16-04-0720P) | The Honorable Buddy W. Dyer, Mayor, City of Orlando, P.O. Box 4990, Orlando, FL 32802 | Public Works Department, 400 South Orange Avenue, 8th Floor, Orlando, FL 32801 | May 31, 2016 | 120186
St. Johns (FEMA Docket No.: B-1611) | Unincorporated areas of St. Johns County (16-04-0826P) | The Honorable Jeb Smith, Chairman, St. Johns County Board of Commissioners, 500 San Sebastian View, St. Augustine, FL 32084 | St. Johns County, Building Services Division, 4040 Lewis Speedway, St. Augustine, FL 32084 | May 31, 2016 | 125147
Georgia: Coweta (FEMA Docket No.: B-1607) | City of Newnan (16-04-0314P) | The Honorable Keith Brady, Mayor, City of Newnan, 25 LaGrange Street, Newnan, GA 30263 | Public Works Department, 25 LaGrange Street, Newnan, GA 30263 | Jun. 3, 2016 | 130062
Kentucky: Barren (FEMA Docket No.: B-1607) | City of Glasgow (15-04-9280P) | The Honorable Dick Doty, Mayor, City of Glasgow, 126 East Public Square, Glasgow, KY 42141 | Public Works Department, 310 West Front Street, Glasgow, KY 42141 | Jun. 3, 2016 | 210007
Barren (FEMA Docket No.: B-1607) | Unincorporated areas of Barren County (15-04-9280P) | The Honorable Michael Hale, Barren County Judge Executive, 117 North Public Square, Suite 3A, Glasgow, KY 42141 | Barren County Government Center, 117 North Public Square, Glasgow, KY 42141 | Jun. 3, 2016 | 210334
Boyd (FEMA Docket No.: B-1607) | Unincorporated areas of Boyd County (15-04-9647P) | The Honorable Steve Towler, Boyd County Judge, P.O. Box 423, Catlettsburg, KY 41129 | Boyd County Floodplain and Code Enforcement Department, 2800 Louisa Street, Catlettsburg, KY 41129 | May 27, 2016 | 210016
New Mexico: Bernalillo (FEMA Docket No.: B-1607) | City of Albuquerque (15-06-0643P) | The Honorable Richard J. Berry, Mayor, City of Albuquerque, P.O. Box 1293, Albuquerque, NM, 87103 | Planning Department, 600 2nd Street Northwest, Albuquerque, NM 87102 | May 31, 2016 | 350002
Bernalillo (FEMA Docket No.: B-1611) | Unincorporated areas of Bernalillo County (15-06-1772P) | The Honorable Maggie Hart Stebbins, Chair, Bernalillo County Board of Commissioners, 1 Civic Plaza Northwest, Albuquerque, NM 87102 | Bernalillo County Public Works Division, 2400 Broadway Boulevard Southeast, Albuquerque, NM 87102 | Jun. 10, 2016 | 350001
Tennessee: Hamilton (FEMA Docket No.: B-1628) | City of Chattanooga (15-04-9959P) | The Honorable Andy Berke, Mayor, City of Chattanooga, 101 East 11th Street, Chattanooga, TN 37402 | Planning Department, 1250 Market Street, Chattanooga, TN 37402 | Jun. 6, 2016 | 470072
Texas: Collin (FEMA Docket No.: B-1611) | City of Allen (15-06-3685P) | The Honorable Stephen Terrell, Mayor, City of Allen, 305 Century Parkway, 1st Floor, Allen, TX 75013 | Engineering Department, 305 Century Parkway, Allen, TX 75013 | Jun. 10, 2016 | 480259
Denton (FEMA Docket No.: B-1607) | City of Frisco (15-06-4148P) | The Honorable Maher Maso, Mayor, City of Frisco, 6101 Frisco Square Boulevard, Frisco, TX 75034 | Engineering Services Department, 6101 Frisco Square Boulevard, Frisco, TX 75034 | May 31, 2016 | 480134
Denton (FEMA Docket No.: B-1607) | Town of Little Elm (15-06-4148P) | The Honorable David Hillock, Mayor, Town of Little Elm, 100 West Eldorado Parkway, Little Elm, TX 75068 | Development Services Department, 100 West Eldorado Parkway, Little Elm, TX 75068 | May 31, 2016 | 481152
El Paso (FEMA Docket No.: B-1611) | City of El Paso (15-06-0864P) | The Honorable Oscar Leeser, Mayor, City of El Paso, 300 North Campbell Street, El Paso, TX 79901 | Land Development Department, 801 Texas Avenue, El Paso, TX 79901 | Jun. 9, 2016 | 480214
Grayson (FEMA Docket No.: B-1611) | City of Denison (15-06-2276P) | The Honorable Jared Johnson, Mayor, City of Denison, P.O. Box 347, Denison, TX 75021 | City Hall, 500 West Chestnut Street, Denison, TX 75020 | Jun. 8, 2016 | 480259
Grayson (FEMA Docket No.: B-1611) | Unincorporated areas of Grayson County (15-06-2276P) | The Honorable Bill Magers, Grayson County Judge, 100 West Houston Street, Sherman, TX 75090 | Grayson County Development Services Department, 100 West Houston Street, Sherman, TX 75090 | Jun. 8, 2016 | 480829
Tarrant (FEMA Docket No.: B-1607) | City of Fort Worth (15-06-0830P) | The Honorable Betsy Price, Mayor, City of Fort Worth, 1000 Throckmorton Street, Fort Worth, TX 76102 | City Hall, 1000 Throckmorton Street, Fort Worth, TX 76102 | May 31, 2016 | 480596
Travis (FEMA Docket No.: B-1611) | City of Pflugerville (15-06-3658P) | The Honorable Jeff Coleman, Mayor, City of Pflugerville, P.O. Box 589, Pflugerville, TX 78660 | Development Services Department, 201-B East Pecan Street, Pflugerville, TX 78691 | Jun. 3, 2016 | 481028
Travis (FEMA Docket No.: B-1611) | Unincorporated areas of Travis County (15-06-3658P) | The Honorable Sarah Eckhardt, Travis County Judge, P.O. Box 1748, Austin, TX 78767 | Travis County Engineering Department, 700 Lavaca Street, Austin, TX 78767 | Jun. 3, 2016 | 481026
Virginia: Chesterfield (FEMA Docket No.: B-1611) | Unincorporated areas of Chesterfield County (15-03-2769P) | The Honorable Steve A. Elswick, Chairman, Chesterfield County Board of Supervisors, P.O. Box 40, Chesterfield, VA 23832 | Chesterfield County Department of Environmental Engineering, 9800 Government Center Parkway, Chesterfield, VA 23832 | Jun. 10, 2016 | 510035
Fauquier (FEMA Docket No.: B-1611) | Unincorporated areas of Fauquier County (15-03-0741P) | The Honorable Chester W. Stribling, Chairman, Fauquier County Board of Supervisors, 10 Hotel Street, Suite 208, Warrenton, VA 20186 | Fauquier County Department of Community Development, Zoning and Development Services, 29 Ashby Street, Suite 310, Warrenton, VA 20186 | Jun. 9, 2016 | 510055
Mecklenburg (FEMA Docket, No.: B-1607) | Unincorporated areas of Mecklenburg County (15-03-1485P) | The Honorable Glenn E. Barbour, Chairman, Mecklenburg County Board of Supervisors, P.O. Box 729, South Hill, VA 23970 | Mecklenburg County Zoning Department, P.O. Box 307, Boydton, VA 23917 | May 26, 2016 | 510189

[FR Doc. 2016-18970 Filed 8-9-16; 8:45 am]

BILLING CODE 9110-12-P